DEPARTMENT OF THE INTERIOR

National Park Service

Notice of Request for Extension and Revision of a Currently Approved Information Collection

AGENCY: National Park Service.

ACTION: Notice and request for comments on information collection regarding National Park Service mining regulations.

SUMMARY: In accordance with the Paperwork Reduction Act of 1995, this notice announces the National Park Service's (NPS) intention to request that the Office of Management and Budget (OMB) extend and revise the currently approved information collection budget for the NPS's minerals management regulatory program inside park boundaries. Under 36 CFR part 9, the NPS regulates mineral development activities in parks associated with mining claims located under the 1872 Mining Law, and with non-Federal oil and gas rights.

Under the Paperwork Reduction Act of 1995 and 5 CFR part 1320, Reporting and Record Keeping Requirements, the NPS invites public comments on (1) the need for the information including whether the information has practical utility; (2) the accuracy of the reporting burden estimate; (3) ways to enhance the quality, utility, and clarity of the information to be collected; and (4) ways to minimize the burden of the information collection on respondents, including the use of automated collection techniques or other forms of information technology.

DATES: Comments on this notice must be received by April 1, 2003.

ADDITIONAL INFORMATION OR COMMENTS: Contact Edward Kassman, Jr., Regulatory Specialist, Policy and Regulations Branch, Geologic Resources Division, National Park Service, P.O. Box 25287, Lakewood, Colorado 80225, (303) 969-2146.

SUPPLEMENTARY INFORMATION:

Title: NPS/Minerals Management Program/Mining Claims and Non-federal Oil and Gas Rights.

OMB Number: 1024-0064.

Expiration Date of Approval: June 30, 2003.

Type of Request: Extension and revision of a currently approved information collection budget for NPS minerals management regulatory program.

Abstract: While surprising, outstanding mineral rights exist in many units of the National Park System. In most cases, these rights predate the establishment of the units. Currently, 1,749 mining claims, which were located under the 1872 Mining Law, 30 U.S.C. 21, et seq., exist in a total of 19 park units. The majority of these claims are located in Mojave National Preserve that was added to the National Park System through the California Desert Protection Act of 1994, 16 U.S.C. 410aaa. With respect to non-Federal oil and gas rights in park units, 703 non-Federal oil and gas operations exist in 12 park units. The potential for additional hardrock mining and non-Federal oil and gas operations in additional units is tied to market forces and the quality and quantity of hardrock minerals and oil and gas reserves in park boundaries that coincide with the presence of private rights.

The NPS regulates mineral development activities inside park boundaries on mining claims and on non-Federal oil and gas rights under regulations codified at 36 CFR part 9, subpart A (“9A regulations”), and 36 CFR part 9, subpart B (“9B regulations”), respectively. The NPS promulgated both sets of regulations in the late 1970's. In the case of mining claims, the NPS promulgated the 9A regulations pursuant to congressional authority granted under the Mining in the Parks Act of 1976, 16 U.S.C. 1901 et seq.,and individual park enabling statutes. For non-Federal oil and gas rights, the NPS regulates development activities pursuant to authority under the NPS Organic Act of 1916, 16 U.S.C. 1 et seq., and individual enabling statutes. As directed by Congress, the NPS developed the regulations in order to protect park resources and visitor values from the adverse impacts associated with mineral development in park boundaries.

The heart of the regulations is the approved “plan of operations” requirement. Essentially, a plan of operations is a prospective operator's blueprint setting forth all intended activities from access to extraction to reclamation related to developing a particular mineral right in a given park unit. The information required in a plan of operations is set forth in NPS regulations. Before an operator can commence development activities in a park unit, the NPS must approve the plan of operations and the operator must secure a bond in an amount sufficient to cover the cost of reclamation to the Federal Government in the event the operator defaults on his/her obligations.

Usually, an approved plan of operations covers the life of the mine or well, from development and production to reclamation. Under NPS regulations, such plans may be revised. No set form is required for a plan of operations. Each plan is tailored to the intended activities of an operator and the particulars of the environment, e.g., hardwood forest or desert, presence of endangered species or cultural resources, location and extent of water resources including wetlands.

Because of the variability among plans of operations and the duration of such plans, assessing the annual paperwork burden of complying with the NPS's mining regulations is difficult. Below is the NPS's best estimate, pro-rated on an annual basis, as to the number of respondents and number of hours involved in complying with the Service's regulations governing mining claims and non-Federal oil and gas rights.

Respondents: ¼ medium to large publicly owned companies and ¾ private entities.

Estimate of Number of Respondents: On an annual basis, the NPS estimates that it receives a range of between 13 to 20 plans of operations under its regulations: 3 to 5 plans of operations for mining claims, and 10 to 15 plans of operations for non-Federal oil and gas rights. For analysis purposes, the NPS used an overall estimate of 17 plans of operations per year: 4 plans of operations for mining claims, and 13 plans of operations for non-Federal oil and gas rights.

Estimated Number of Responses per Respondent: to conduct mineral development operations in park units, a prospective operator must submit a proposed plan of operations to the NPS for review and approval. Once approved, such a plan covers the life of the operation. If the plan is for geophysical work associated with private oil and gas rights it may only cover a period of a few months. In contrast, a plan for an oil and gas well or a hardrock mine may cover a period of 10 or more years.

Estimate of Burden Per Respondent: Public reporting burden for this collection of information is estimated to average 176 hours per response.

Estimated total Annual Burden: 2992 hours. This number breaks down to 704 total hours to comply with the information requirements of the 9A regulations governing mining claim operations in parks, and 2288 total hours to comply with the information requirements of the 9B regulations governing non-Federal oil and gas operations in parks.

Methodology and Assumptions Underlying the Hour Estimate: Under the Service's 9A regulations and the 9B regulations, a complete plan may consist of 10 pages of text plus 2-10 pages of illustrations inclusive of location maps, site plans and cross-sections, and up to 100 pages of text plus several volumes of supporting material depending on the complexity of the proposed operations. The latter type of plan for hardrock mining is a rarity in the NPS. The time to prepare a plan could range from 24 hours to 6 months for a very complicated plan. Because the content of each plan is specific to the operation and site, and each operation and site present a unique set of circumstances, it is difficult to identify an “average” plan on which to base an estimate of preparation time. The NPS thus chose to use 160 hours (4 weeks) plus 10% for purposes of this analysis. In the case of the 9A regulations where an average of 4 complete proposed plans are expected per year, the estimated total amount of time involved to prepare plans of operations is 704 hours (i.e., 176 hours × 4 complete proposed plans). In the case of the 9B regulations where an average of 13 complete proposed plans are expected per year, the estimated total amount of time involved to prepare plans of operations is 2288 hours (i.e. 176 hours × 13 complete proposed plans).

Estimated Cost Per Respondent to Comply with the Paperwork Requirements: The NPS estimates that the annualized cost to all respondents to comply with the 9A regulations ranges from $7,040 to $70,400. The NPS estimated the cost per plan at $1,760 to $17,600. In the case of the 9B regulations, the NPS estimates the annualized cost to all respondents ranges from $65,000 to $260,000 based on a likely individual compliance cost range of $5,000 to $20,000.

Methodology and Assumptions Underlying the Cost Estimate: For the 9A regulations, the annualized estimated cost to all the respondents was determined as follows:

(1) Nationwide, 4 plans of operations and associated information (e.g., bond, commercial vehicle registration) are expected annually from different operators;

(2) Using an estimate of 160 hours to prepare a plan complete with attachments at a costs of $10 to $100 per hour (assuming the use of consultants for some or all parts of the plan requirements), the costs to prepare a plan could range from $1600 to $16,000.

(3) The NPS added ten percent (i.e., $160 to $1,600) of the cost to prepare a plan of operations to account for administrative costs associated with changes in claim ownership, etc.

An operator with experience in preparing plans of operations likely can prepare an acceptable plan for a moderately complex operation in a few weeks, since most of the components of the plan are compiled during the course of normal business activities. Many of the information requirements of the regulations should be compiled by a responsible operator as part of normal business activities, to minimize liabilities, maintain business records for tax and other purposes, obtain financial backing, and ensure a safe, efficient, and well-planned operation. Under the regulations, information may be submitted in the manner in which is it customarily maintained in the industry. The reclamation plan and environmental report requirements, 36 CFR 9.9(b)(6) and (9), respectively, comprise the bulk of the information collection burden associated with these regulations. There is no standard form for submitting information. The NPS makes pertinent environmental information in park files available to prospective operators to aid in the preparation of proposed plans of operations.

For the 9B regulations, the NPS used a likely individual compliance cost range of $5,000 to $20,000. The range reflects the differences in types and numbers of operations that may be included in a single plan, the wide variations in the environmental settings in which non-Federal oil and gas development occurs in parks whether an applicant prepares the documents in house or uses a consultant, and the availability of pre-existing environmental data from parks. Much of the information required by 36 CFR 9.36 should be compiled by a responsible operator as part of his/her normal business activities to minimize liabilities, maintain business records for tax and other purposes, obtain financial backing, and ensure a safe, efficient, and well-planned operation. The information may be submitted in the manner in which it is customarily maintained in the industry. The NPS does not require conformance with a standardized format. The reclamation plan and environmental report requirements, 36 CFR 9.36(a)(12) and (16), respectively, comprise the bulk of the information collection burden associated with these regulations. The NPS makes pertinent environmental information in park files available to prospective operators to aid in the preparation of proposed plans of operations.

Dated: January 7, 2003.
Leonard E. Stowe,
Acting Information Collection Clearance Officer, WASO Administrative Program Center, National Park Service.

[FR Doc. 03-2326 Filed 1-30-03; 8:45 am]

BILLING CODE 4310-70-M